DEPARTMENT OF ENERGY

Federal Energy Regulatory Commission

[Docket No. CP15-138-000]

Transcontinental Gas Pipe Line Company, LLC; Notice of Schedule for Environmental Review of the Atlantic Sunrise Expansion Project

On March 31, 2015, Transcontinental Gas Pipe Line Company, LLC (Transco) a subsidiary of Williams Partners L.P. (Williams), filed an application with the Federal Energy Regulatory Commission (FERC or Commission) in Docket No. CP15-138-000 requesting authorization pursuant to section 7(c) of the Natural Gas Act (NGA) and part 157 of the Commission's regulations to construct, operate, and maintain expansions of its existing interstate natural gas pipeline system in Pennsylvania, Maryland, Virginia, North Carolina, and South Carolina. The proposed project, referred to as the Atlantic Sunrise Expansion Project (Project), would provide 1,700,000 dekatherms per day of natural gas transportation service from various receipt points in Pennsylvania to various delivery points along Transco's existing interstate pipeline system.

FERC issued its Notice of Application for the Project on April 8, 2015. Among other things, the notice alerted other agencies issuing federal authorizations of the requirement to complete all necessary reviews and to reach a final decision on the request for a federal authorization within 90 days of the date of issuance of the Commission staff's final environmental impact statement (EIS) for the Project. This notice identifies the FERC staff's planned schedule for completion of the final EIS for the Project.

Schedule for Environmental Review

Issuance of Notice of Availability of the final EIS October 21, 2016

90-day Federal Authorization Decision Deadline January 19, 2017

If a schedule change becomes necessary, an additional notice will be provided so that the relevant agencies are kept informed of the Project's progress.

Project Description

The Project includes about 197.7 miles of pipeline composed of the following facilities:

• 183.7 miles of new 30- and 42-inch-diameter greenfield ¹ natural gas pipeline;

¹ A “greenfield” pipeline crosses land previously untouched by natural gas infrastructure rather than using existing rights-of-way.

• 11.5 miles of new 36- and 42-inch-diamater pipeline looping; ²

² “Looping” is the practice of installing a pipeline in parallel to another pipeline to increase the capacity along an existing stretch of right-of-way, often beyond what can be achieved by one pipeline or pipeline expansion.

• 2.5 miles of 30-inch-diameter replacements; and

• associated equipment and facilities.

The Project's aboveground facilities consist of two new compressor stations; additional compression and related modifications to three existing compressor stations; two new meter stations and three new regulator stations; and minor modifications at existing aboveground facilities at various locations to allow for bi-directional flow and the installation of supplemental odorization, odor detection, and/or odor masking/deodorization equipment.

Background

On April 4, 2014, the Commission staff granted Transco's request to use the FERC's pre-filing environmental review process and assigned the Project Docket No. PF14-8-000. On July 18, 2014, the Commission issued a Notice of Intent to Prepare an Environmental Impact Statement for the Planned Atlantic Sunrise Expansion Project, Request for Comments on Environmental Issues, and Notice of Public Scoping Meetings (NOI). The NOI was sent to federal, state, and local government representatives and agencies; elected officials; environmental and public interest groups; Native American Tribes; affected property owners; other interested parties; and local libraries and newspapers. Major issues raised during scoping include potential impacts on forested areas, groundwater, and threatened and endangered species; socioeconomic impacts; land use and recreational impacts; air quality; safety; potential cumulative impacts; and potential alternative routes. The U.S. Army Corps of Engineers is a cooperating agency in the preparation of the EIS.

Additional information about the Project may be obtained by contacting the Environmental Project Manager, Joanne Wachholder, by telephone at (202) 502-8056 or by electronic mail at joanne.wachholder@ferc.gov.

Dated: March 9, 2016.
Nathaniel J. Davis, Sr.,
Deputy Secretary.

[FR Doc. 2016-05772 Filed 3-14-16; 8:45 am]

BILLING CODE 6717-01-P